DEPARTMENT OF THE INTERIOR

Bureau of Land Management

[BLM_OR_FRN_MO4500175978]

Notice of Public Meetings of the Western Oregon Resource Advisory Council

AGENCY: Bureau of Land Management, Interior.

ACTION: Notice of public meetings.

SUMMARY: In accordance with the Federal Land Policy and Management Act and the Federal Advisory Committee Act of 1972, the U.S. Department of the Interior, Bureau of Land Management (BLM) Western Oregon Resource Advisory Council (RAC) has scheduled public meetings for December 5-6, 2023.

DATES: The Western Oregon RAC will meet virtually on December 5 and December 6, 2023. On December 5, the meeting will begin at 9 a.m. and adjourn at 4 p.m. Pacific time (PT). On December 6, the meeting will begin at 9 a.m. and adjourn at 3 p.m. PT.

ADDRESSES: The meetings will be held virtually over the Zoom platform. Please contact Megan Harper, Public Affairs Specialist for the Coos Bay District, at (541) 751-4353 or m1harper@blm.gov to receive a link to attend the Zoom meeting.

FOR FURTHER INFORMATION CONTACT: Megan Harper, Public Affairs Specialist, Coos Bay District, 1300 Airport Lane, North Bend, OR 97504; phone: (541) 751-4353; email: m1harper@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The 15-member Western Oregon RAC advises the Secretary of the Interior, through the BLM, on a variety of public land issues across public lands in Western Oregon, including the Coos Bay, Medford, Northwest Oregon, and Roseburg Districts and part of the Lakeview District. The December 5 and 6, 2023, meetings will focus on reviewing projects that have been proposed to receive funding under Title II of the Secure Rural Schools and Community Self-Determination Act. Final agendas will be available on the RAC's web page 2 weeks in advance of the meeting at https://www.blm.gov/get-involved/resource-advisory-council/near-you/oregon-washington/western-oregon-rac.

The meetings are open to the public, and a public comment period will be held at 3 p.m. PT on December 5, and at 1:30 p.m. PT on December 6. Depending on the number of persons wishing to comment, time allotted for individual oral comments may be limited. The public may present written comments to the RAC. Before including your address, phone number, email address, or other personal identifying information in your comment, you should be aware that your entire comment—including your personal identifying information—may be made publicly available at any time. While you can ask us in your comment to withhold your personal identifying information from public review, we cannot guarantee that we will be able to do so.

Please make requests in advance for sign language interpreter services, assistive listening devices, or other reasonable accommodations. We ask that you contact the person listed in the FOR FURTHER INFORMATION CONTACT section of this notice at least 7 business days prior to the meeting to give the BLM sufficient time to process your request. All reasonable accommodation requests are managed on a case-by-case basis.

Detailed minutes for the RAC meetings will be maintained in the Coos Bay District Office and will be available for public inspection and reproduction during regular business hours within 90 days following the meeting. Previous minutes, membership information, and upcoming agendas are available at: https://www.blm.gov/get-involved/resource-advisory-council/near-you/oregon-washington.

(Authority: 43 CFR 1784.4-2)

Heather L. Whitman,
Designated Federal Officer.

[FR Doc. 2023-25143 Filed 11-14-23; 8:45 am]

BILLING CODE 4331-24-P